DEPARTMENT OF AGRICULTURE

Farm Service Agency

Notice of Funds Availability (NOFA) Inviting Applications for the Horse Breeder Loan Program; Correction

AGENCY: Farm Service Agency, USDA.

ACTION: Notice; correction.

SUMMARY: This document contains a correction to the Notice of Funds Availability (NOFA) published Friday July 5, 2002, for the Horse Breeder Loan Program. The loss calculation formula in the NOFA incorrectly calculated losses other than foal losses by inadvertently penalizing horse breeders who generated income form foal loss. This document corrects the formula used to calculate the value of losses, other than foal losses, for the horse breeder business.

FOR FURTHER INFORMATION CONTACT: Cathy Quayle, Senior Loan Officer or Patrick Spalding, Senior Loan Officer, USDA/FSA/DAFLP/STOP 0522, 1400 Independence Avenue, SW., Washington, DC 20250-0522; telephone (202) 720-1472; facsimile (202) 720-6797; electronic mail: Cathy_Quayle@wdc.usda.gov or Patrick_Spalding@wdc.usda.gov.

Correction

Accordingly, in the NOFA published on July 5, 2002 (67 FR 44799—44804) make the following correction:

On page 44802, in the first column, in section XI, correct the first sentence of paragraph 3(b) to read as follows:

XI. Loss Calculations

* * * * *

3. * * *

(b) The annual net income for the horse breeder business will be determined by subtracting all cash business expenses for the horse breeder business from all business income for the horse breeder business reported on Schedule F and other related schedules of the applicant's Federal income tax return. * * *

* * * * *

Signed at Washington, DC, on September 12, 2002.
James R. Little,
Administrator, Farm Service Agency.

[FR Doc. 02-24428 Filed 9-25-02; 8:45 am]

BILLING CODE 3410-05-P